DEPARTMENT OF ENERGY

Federal Energy Regulatory Commission

[Docket No. IC26-19-000]

Commission Information Collection Activities (FERC-725N) Comment Request; Extension

AGENCY: Federal Energy Regulatory Commission.

ACTION: Notice of information collection and request for comments.

SUMMARY: In compliance with the requirements of the Paperwork Reduction Act of 1995, the Federal Energy Regulatory Commission (Commission or FERC) is soliciting public comment on the currently approved information collection FERC-725N (Mandatory Reliability Standards TPL-007-4, Transmission System Planned Performance for Geomagnetic Disturbance Events).

DATES: Comments on the collection of information are due May 4, 2026.

ADDRESSES: You may submit your comments (identified by Docket No. IC26-19-000) by one of the following methods:

Electronic filing through https://www.ferc.gov, is preferred.

• Electronic Filing: Documents must be filed in acceptable native applications and print-to-PDF, but not in scanned or picture format.

• For those unable to file electronically, comments may be filed by USPS mail or by hand (including courier) delivery:

○ Mail via U.S. Postal Service Only: Addressed to: Federal Energy Regulatory Commission, Secretary of the Commission, 888 First Street NE, Washington, DC 20426.

○ Hand (Including Courier) Delivery: Addressed to: Federal Energy Regulatory Commission, Secretary of the Commission,12225 Wilkins Avenue, Rockville, MD 20852.

Instructions: All submissions must be formatted and filed in accordance with submission guidelines at: https://www.ferc.gov. For user assistance, contact FERC Online Support by email at ferconlinesupport@ferc.gov, or by phone at (866) 208-3676 (toll-free).

Docket: Users interested in receiving automatic notification of activity in this docket or in viewing/downloading comments and issuances in this docket may do so at https://www.ferc.gov.

FOR FURTHER INFORMATION CONTACT: Kayla Williams at DataClearance@FERC.gov, telephone at (202) 502-6468.

SUPPLEMENTARY INFORMATION:

Title: FERC-725N, Mandatory Reliability Standards TPL-007-4, Transmission System Planned Performance for Geomagnetic Disturbance Events.

OMB Control No.: 1902-0264.

Type of Request: Extension of the currently approved collection without change.

Abstract: The Reliability Standard TPL-007-4 requires owners and operators of the Bulk-Power System to conduct initial and on-going vulnerability assessments of the potential impact of defined geomagnetic disturbance events on Bulk- Power System equipment and the Bulk-Power System as a whole. Specifically, the Reliability Standard requires entities to develop corrective action plans for vulnerabilities identified through supplemental geomagnetic disturbance vulnerability assessments and requires entities to seek approval from the Electric Reliability Organization of any extensions of time for the completion of corrective action plan items.

On August 8, 2005, Congress enacted into law the Electricity Modernization Act of 2005, which is Title XII, Subtitle A, of the Energy Policy Act of 2005 (EPAct 2005).¹ EPAct 2005 added a new section 215 to the Federal Power Act (FPA), which required a Commission-certified Electric Reliability Organization (ERO) to develop mandatory and enforceable Reliability Standards, which are subject to Commission review and approval. Once approved, the Reliability Standards may be enforced by the ERO subject to Commission oversight, or the Commission can independently enforce Reliability Standards.²

¹ Energy Policy Act of 2005, Public Law 109-58, Title XII, Subtitle A, 119 Stat. 594, 941 (codified at 16 U.S.C. 824o).

² 16 U.S.C. 824o(e)(3).

On February 3, 2006, the Commission issued Order No. 672, implementing section 215 of the FPA.³ Pursuant to Order No. 672, the Commission certified one organization, North American Electric Reliability Corporation (NERC), as the ERO.⁴ The Reliability Standards developed by the ERO and approved by the Commission apply to users, owners and operators of the Bulk-Power System as set forth in each Reliability Standard.

³ Rules Concerning Certification of the Electric Reliability Organization; and Procedures for the Establishment, Approval, and Enforcement of Electric Reliability Standards, Order No. 672, FERC Stats. & Regs. ¶ 31,204, order on reh'g, Order No. 672-A, FERC Stats. & Regs. ¶ 31,212 (2006).

⁴ North American Electric Reliability Corp., 116 FERC ¶ 61,062, order on reh'g and compliance, 117 FERC ¶ 61,126 (2006), order on compliance, 118 FERC ¶ 61,190, order on reh'g, 119 FERC ¶ 61,046 (2007), aff'd sub nom. Alcoa Inc. v. FERC, 564 F.3d 1342 (D.C. Cir. 2009).

Type of Respondents: Generator Owner, Planning Coordinator, Distribution Provider and Transmission Owners.

Estimate of Annual Burden: ⁵ Our estimates are based on the NERC Compliance Registry Summary of Entities as of February 9, 2026.

⁵ Burden is defined as the total time, effort, or financial resources expended by persons to generate, maintain, retain, or disclose or provide information to or for a federal agency. See 5 CFR 1320 for additional information on the definition of information collection burden.

The individual burden estimates include the time needed to gather data, run studies, and analyze study results. These are consistent with estimates for similar tasks in other Commission-approved standards. Estimates for the additional average annual burden and cost ⁶ as follows:

Annual Collection TPL-007-4 FERC 725N
Reliability standard or process | Type and number of entities ⁷ | Annual number of responses per entity | Total number of responses | Average burden hrs. & cost ($) per response | Total annual burden hours & cost ($) (rounded)
| (1) | (2) | (1) * (2) = (3) | (4) | (3) * (4) = (5)
Annual review and record retention ⁸⁹¹⁰ | 1,354 (GOP) | 1 | 1,354 | 40 hrs.; $2,540.80 | 54,160 hrs.; $3,440,243.
| 60 (PC) | 1 | 60 | 40 hrs.; $2,540.80 | 2,400 hrs.; $ 152,448.
| 300 (DP) | 1 | 300 | 40 hrs.; $2,540.80 | 12,000 hrs.; $762,240.
| 341 (TO) | 1 | 341 | 40 hrs.; $2,540.80 | 13,640 hrs.; $866,413.
Total for TPL-007-4 |  |  | 2,055 |  | 82,200 hours; $5,221,344.

Comments: Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

⁶ The estimated hourly cost (salary plus benefits) is a combination of the following categories from the BLS website, http://www.bls.gov/oes/current/naics2_22.htm: 75% of the average of an Electrical Engineer (17-2071) $71.19/hr., × .75 = 53.3925 ($53.39-rounded) ($53.39/hour); and 25% of an Information and Record Clerk (43-4199) $40.51/hr., $40.51 × .25 = 10.1275 ($10.13 rounded) ($10.13/hour), for a total ($53.39 + $10.13 = $63.52/hour).

⁷ The “Number of Entity” data is compiled from the February 9, 2026, edition of the NERC Compliance Registry. “DP” means distribution provided; “GOP” means generator operator; “PC” means planning coordinator; “TO” means transmission owner.”

Dated: February 27, 2026.
Debbie-Anne A. Reese,
Secretary.

[FR Doc. 2026-04266 Filed 3-3-26; 8:45 am]

BILLING CODE 6717-01-P